FEDERAL RESERVE SYSTEM

12 CFR Part 265

[Docket No. R-1600]

RIN 7100 AE99

Rules Regarding Delegation of Authority: Delegation of Authority to the Secretary of the Board

AGENCY: Board of Governors of the Federal Reserve System (Board).

ACTION: Final rule.

SUMMARY: The Board is amending its rules regarding delegation of authority to delegate to the Secretary of the Board the authority to review and determine an appeal of denial of access to Board records under the Freedom of Information Act, the Privacy Act, and the Board's rules regarding such access.

DATES: Effective March 6, 2018.

FOR FURTHER INFORMATION CONTACT: Brian Phillips, Attorney, (202) 452-3321, Legal Division, Board of Governors of the Federal Reserve System, 20th and C Streets NW, Washington, DC 20551. For the hearing impaired only, Telecommunications Device for the Deaf (TDD) users may contact (202) 263-4869.

SUPPLEMENTARY INFORMATION:

I. Discussion

The Board previously adopted a rule delegating to any member of the Board, as designated by the Chairman, the authority to “review and determine an appeal of denial of access to Board records under the Freedom of Information Act, the Privacy Act, and the Board's rules regarding such access.” ¹ The Board has determined that the Secretary of the Board is capable of acting on such requests. Accordingly, the Board is amending its rules regarding delegation of authority to delegate to the Secretary of the Board the authority to review and determine an appeal of denial of access to Board records under the Freedom of Information Act, the Privacy Act, and the Board's rules regarding such access, and to delete the existing delegation of authority to individual Board members.

¹ 12 CFR 265.4(a)(1) (internal citations omitted).

II. Regulatory Analysis

These amendments relate solely to the agency's organization, procedure, or practice. Accordingly, the provisions of the Administrative Procedure Act regarding notice of proposed rulemaking and opportunity for public participation are not applicable.²

² 5 U.S.C. 553(b)(A).

Because no notice of proposed rulemaking is required to be issued, or has been issued, in connection with this rule, it is not a “rule” for purposes of the Regulatory Flexibility Act, and that act, therefore, does not apply.³

³ See 5 U.S.C. 601(2).

These amendments do not contain any collection of information requirements as defined by the Paperwork Reduction Act of 1995, as amended.⁴

⁴ 44 U.S.C. 3501 et seq.

Section 722 of the Gramm-Leach-Bliley Act ⁵ requires the Federal banking agencies to use plain language in all proposed and final rules published after January 1, 2000. The Board has sought to present this rule in a simple and straightforward manner.

⁵ Public Law 106-102, 113 Stat. 1338, 1471 (1999) (codified at 12 U.S.C. 4809).

The rule is not a “substantive rule” for the purposes of the effective-date provision of the Administrative Procedure Act; as such, the act does not require the Board to delay the effective date of the rule.⁶ Accordingly, the amendments are effective March 6, 2018.

⁶ See 5 U.S.C. 553(d).

List of Subjects in 12 CFR Part 265

Authority delegations (Government agencies), Banks, banking.

Authority and Issuance

For the reasons stated in the Supplementary Information, the Board of Governors of the Federal Reserve System amends 12 CFR part 265 as follows:

PART 265—RULES REGARDING DELEGATION OF AUTHORITY

1. The authority citation for part 265 continues to read as follows:

Authority: 12 U.S.C. 248(i) and (k).

§ 265.4 [Amended]

2. In § 265.4:

a. Remove paragraph (a)(1); and

b. Redesignate paragraphs (a)(2) through (4) as paragraphs (a)(1) through (3).

3. In § 265.5:

a. Revise the introductory text;

b. Redesignate paragraphs (b)(2) and (3) as paragraphs (b)(3) and (4); and

c. Add new paragraph (b)(2)

The revisions and additions read as follows:

§ 265.5 Functions delegated to Secretary of the Board.

The Secretary of the Board (or the Secretary's delegee) is authorized:

* * * * *

(b) * * *

(2) Review of denial of access to Board records; FOIA. To review and determine an appeal of denial of access to Board records under the Freedom of Information Act (5 U.S.C. 552), the Privacy Act (5 U.S.C. 552a), and the Board's rules regarding such access (12 CFR parts 261 and 261a, respectively).

* * * * *

By order of the Board of Governors of the Federal Reserve System, February 28, 2018.
Margaret M. Shanks,
Deputy Secretary of the Board.

[FR Doc. 2018-04385 Filed 3-5-18; 8:45 am]

BILLING CODE P